DEPARTMENT OF HOMELAND SECURITY

Bureau of Customs and Border Protection

19 CFR Part 122

[USCBP-2007-0017]

Addition of San Antonio International Airport to List of Designated Landing Locations for Certain Aircraft

AGENCY: Customs and Border Protection; Department of Homeland Security.

ACTION: Proposed rule.

SUMMARY: This document proposes to amend the Customs and Border Protection (CBP) Regulations by adding the San Antonio International Airport (SAT), located in San Antonio, Texas, to the list of designated airports at which certain aircraft arriving in the continental United States from certain areas south of the United States must land for CBP processing. This proposed amendment is made to improve the effectiveness of CBP enforcement efforts to combat the smuggling of contraband by air into the United States from the south.

DATES: Comments must be received on or before November 13, 2007.

ADDRESSES: You may submit comments, identified by docket number, by one of the following methods:

• Federal eRulemaking Portal: http://www.regulations.gov. Follow the instructions for submitting comments via docket number USCBP-2007-0017.

• Mail: Border Security Regulations Branch, Office of Regulations and Rulings, Customs and Border Protection, 1300 Pennsylvania Avenue, NW., (Mint Annex), Washington, DC 20229.

Instructions: All submissions received must include the agency name and docket number for this rulemaking. All comments received will be posted without change to http://www.regulations.gov, including any personal information provided. For detailed instructions on submitting comments and additional information on the rulemaking process, see the “Public Participation” heading of the SUPPLEMENTARY INFORMATION section of this document.

Docket: For access to the docket to read background documents or comments received, go to http://www.regulations.gov. Submitted comments may also be inspected during regular business days between the hours of 9 a.m. and 4:30 p.m. at the Office of Regulations and Rulings, Customs and Border Protection, 799 9th Street, NW., 5th Floor, Washington, DC. Arrangements to inspect submitted comments should be made in advance by calling Mr. Joseph Clark at (202) 572-8768.

FOR FURTHER INFORMATION CONTACT: Fred Ramos, Program Manager, Traveler Security and Facilitation, Office of Field Operations, Customs and Border Protection at (202) 344-3726.

SUPPLEMENTARY INFORMATION:

Public Participation

Interested persons are invited to participate in this rulemaking by submitting written data, views, or arguments on all aspects of the proposed rule. CBP also invites comments that relate to the economic, environmental, or federalism affects that might result from this proposed rule. Comments that will provide the most assistance to CBP will reference a specific portion of the proposed rule, explain the reason for any recommended change, and include data, information, or authority that support such recommended change.

Background

As part of CBP's efforts to combat drug-smuggling activities, CBP air commerce regulations were amended in 1975 by Treasury Decision (T.D.) 75-201, to impose special reporting requirements and control procedures on certain aircraft arriving in the continental United States via the U.S./Mexican border, the Pacific Coast, the Gulf of Mexico, or the Atlantic Coast from certain locations in the southern portion of the Western Hemisphere. These special reporting requirements apply to all aircraft except the following: Public aircraft; those aircraft operated on a regularly published schedule, pursuant to a certificate of public convenience and necessity or foreign aircraft permit issued by the Department of Transportation authorizing interstate, overseas air transportation; and those aircraft with a seating capacity of more than 30 passengers or a maximum payload capacity of more than 7,500 pounds which are engaged in air transportation for compensation or hire on demand (see 19 CFR 122.23(a)). Thus, since 1975, commanders of such aircraft have been required to furnish CBP with timely notice of their intended arrival, and required to land at the nearest airport to the point of crossing designated by CBP for processing.

Specifically, the regulations (19 CFR 122.23) provide that subject aircraft arriving in the continental United States from certain areas south of the United States must furnish a notice of intended arrival to the designated airport located nearest the point of crossing. Section 122.24(b) (19 CFR 122.24(b)) provides that, unless exempt, such aircraft must land at designated airports for CBP processing and delineates the airports designated for reporting and processing purposes for these aircraft.

During the previous six years, aircraft subject to the special reporting requirements entering the United States from the specified foreign areas at a point of crossing near San Antonio, were required to land at San Antonio International Airport (SAT) for processing by CBP. These international flights have been arriving at SAT since November 2000, when SAT was temporarily designated as an airport where aircraft arriving from certain southern areas could land pursuant to section 1453 of the Tariff Suspension and Trade Act of 2000 (Pub. L. 106-476, Nov. 9, 2000). The Miscellaneous Trade and Technical Corrections Act of 2004 (Pub. L. 108-429, Dec. 3, 2004) effectively extended the airport's designation through November 9, 2006.

This statutory designation has now expired. Community officials from San Antonio, Texas and the surrounding region have written CBP requesting that SAT be designated by regulation as an airport where aircraft arriving from certain southern areas must land.

During the six years that SAT has been statutorily designated as an airport at which these aircraft arriving from the south may land for customs processing, CBP has reported no incidents or problems arising from this designation. Such a designation will impose no additional burdens on CBP as CBP already has a significant presence at SAT, processing international passengers arriving on scheduled commercial airliners as a landing rights airport. These same CBP personnel have been processing passengers arriving from the south since SAT was temporarily designated as an airport where aircraft arriving from the south could land pursuant to the Tariff Suspension and Trade Act of 2000. SAT provides facilities and security and law enforcement support services, at no charge to CBP, to assist in the processing of aircraft. Consequently, by this document CBP is proposing to permanently designate SAT as an airport where certain aircraft, arriving in the United States from south of the United States, are authorized to land for CBP processing.

Proposed Amendment to Regulations

If the proposed airport designation is adopted, the list of designated airports, at which certain aircraft arriving in the continental United States from certain areas south of the United States must land for CBP processing, at 19 CFR 122.24(b), will be amended to include San Antonio International Airport, located in San Antonio, Texas.

Authority

This change is proposed under the authority of 5 U.S.C. 301, 19 U.S.C. 1433(d), 1644a, and 1624, and the Homeland Security Act of 2002, Public Law 107-296 (November 25, 2002).

Signing Authority

This amendment to the regulations is being issued in accordance with 19 CFR 0.2(a) pertaining to the authority of the Secretary of Homeland Security (or his or her delegate) to prescribe regulations not related to customs revenue functions.

The Regulatory Flexibility Act and Executive Order 12866

This proposed amendment seeks to expand the list of designated airports at which certain aircraft may land for customs processing. As described in this document, certain international flights have been arriving at SAT, pursuant to statute, from November 2000, through November 9, 2006. The expansion of the list of designated airports to include SAT will not result in any new impact on affected parties but will result in a continuation of the previous situation. Therefore, CBP certifies that the proposed rule will not have significant economic impact on a substantial number of small entities. Accordingly, the document is not subject to the regulatory analysis or other requirements of 5 U.S.C. 603 and 604 of the Regulatory Flexibility Act (5 U.S.C. 601 et seq.). The Office of Management and Budget has determined that this regulatory proposal is not a significant regulatory action as defined under Executive Order 12866.

Dated: September 4, 2007.
Michael Chertoff,
Secretary.

[FR Doc. E7-17802 Filed 9-10-07; 8:45 am]

BILLING CODE 9111-14-P